NATIONAL ARCHIVES AND RECORDS ADMINISTRATION

[NARA-2023-044]

National Industrial Security Program Policy Advisory Committee (NISPPAC); Meeting

AGENCY: Information Security Oversight Office (ISOO), National Archives and Records Administration (NARA).

ACTION: Notice of Federal advisory committee meeting.

SUMMARY: We are announcing an upcoming National Industrial Security Program Policy Advisory Committee (NISPPAC) meeting in accordance with the Federal Advisory Committee Act and implementing regulations.

DATES: The meeting will be on November 15, 2023, from 10am-1pm EST.

ADDRESSES: This meeting will be a virtual meeting. See supplementary procedures below.

FOR FURTHER INFORMATION CONTACT: Heather Harris Pagán, ISOO Program Analyst, by telephone at 202.357.5351 or by email at ISOO@nara.gov. Contact ISOO at ISOO@nara.gov and the NISPPAC at NISPPAC@nara.gov.

SUPPLEMENTARY INFORMATION: This meeting is open to the public in accordance with the Federal Advisory Committee Act (5 U.S.C. app 2) and implementing regulations at 41 CFR 102-3. The Committee will discuss National Industrial Security Program policy matters.

Procedures: Members of the public must register in advance for the virtual meeting through the Event Services link https://ems8.intellor.com?do=register&t=1&p=848621 if they wish to attend. NISPPAC members, ISOO employees, and speakers should send an email to NISPPAC@nara.gov for the appropriate registration information instead of registering with the above link.

Tasha Ford,
Committee Management Officer.

[FR Doc. 2023-21371 Filed 9-28-23; 8:45 am]

BILLING CODE 7515-01-P